DEPARTMENT OF THE INTERIOR

Fish and Wildlife Service

Receipt of Applications for Endangered Species Permits

AGENCY: Fish and Wildlife Service, Interior.

ACTION: Notice of receipt of applications for permits.

SUMMARY: The public is invited to comment on the following applications to conduct certain activities with endangered species. We provide this notice pursuant to section 10(c) of the Endangered Species Act of 1973, as amended (16 U.S.C. 1531 et seq.).

DATES: We must receive written data or comments on these applications at the address given below, by July 30, 2004.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist).

FOR FURTHER INFORMATION CONTACT: Victoria Davis, telephone 404/679-4176; facsimile 404/679-7081.

SUPPLEMENTARY INFORMATION: The public is invited to comment on the following applications for permits to conduct certain activities with endangered species. If you wish to comment, you may submit comments by any one of the following methods. You may mail comments to the Service's Regional Office (see ADDRESSES section) or via electronic mail (e-mail) to victoria_davis@fws.gov. Please submit electronic comments as an ASCII file avoiding the use of special characters and any form of encryption. Please also include your name and return address in your e-mail message. If you do not receive a confirmation from the Service that we have received your e-mail message, contact us directly at the telephone number listed above (see FOR FURTHER INFORMATION CONTACT section). Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Archbold Expeditions, Archbold Biological Station, MacArthur Agro-Ecology, Lake Placid, Florida, TE088035-0

The applicant requests authorization to harass the Florida scrub jay (Aphelocoma coerulescens), Audubon's crested caracara (Polyborus plancus audubonii), wood stork (Mycteria americana), American alligator (Alligator mississippiensis), eastern indigo snake (Drymarchon corais couperi), bluetail mole skink (Eumeces egregius lividus), sand skink (Neoseps reynoldsi), and the Florida panther (Puma (=Felis) concolor coryi). The applicant also requests authorization to destroy or remove Cladonia perforata (Perforate reindeer lichen), Clitoria fragrans (Pigeon-wing butterfly-pea), Dicerandra frutescens (Lake Placid scrub mint), Liatris ohlingerae (Scrub blazing star), Nolina brittoniana (Scrub beargrass), Paronychia chartacea (Papery Whitlow-wort), Polygonella basiramia (Hairy jointweed), Polygonella myriophylla (Small's jointweed), Prunus geniculata (Florida scrub plum), and Warea carteri (Carter's Mustard). Take would occur while conducting prescribed burns for habitat management, restoration, and research in Highland's County, Florida.

Applicant: Stuart L. Pimm, Duke University, Durham, North Carolina, TE088850-0

The applicant requests authorization to take (capture, identify, band, release) the Cape Sable Seaside Sparrow rulea (Ammodramus maritimus mirabilis) while conducting long term population presence and absence surveys. The proposed activities would throughout the species range in the State of Florida.

Applicant: Alan David Christian, Arkansas State University, State University, Arkansas TE088891-0

The applicant requests authorization to take (capture, identify, temporarily hold in captivity, collect tissue samples, translocate, and release) Ouachita rock pocketbook (Arkansia wheeleri), Curtis' pearlymussel (Epioblasma florentina curtisii), turgid blossom (Epioblasma turgidula), pink mucket (Lampsilis abrupta), Arkansas fatmucket (Lampsilis powelli), speckled pocketbook (Lampsilis streckeri), scaleshell (Leptodea leptodon), fat pocketbook (Potamilus capax), and winged mapleleaf (Quadrula fragosa) while conducting presence and absence studies, genetic studies, and/or control propagation activities. The proposed activities would occur throughout the species range in Arkansas.

Applicant: U.S. Forest Service, National Forest in North Carolina, Steven A. Simon, Asheville, North Carolina TE088906-0

The applicant requests authorization to take (capture, band, release, and monitor nests) of the red-cockaded woodpecker (Picoides borealis) while conducting nest monitoring and bird banding. The proposed activities would take place on the Croatan National Forest; Craven, Carteret, and Jones Counties, North Carolina.

Applicant: Leslie J. Rissler, Tuscaloosa, Alabama, TE088913-0

The applicant requests authorization to take (harass) red-cockaded woodpeckers (Picoides borealis) and take (capture and release) flattened musk turtle (Sternotherus depressus) while conducting presence and absence surveys. The proposed activities would take place throughout the species ranges in Alabama.

Applicant: Martha J. Flanagan, North Carolina State University, Raleigh, North Carolina, TE088941-0

The applicant requests authorization to take (capture, hold, release) Puerto Rican Boas (Epicrates inornatus) while studying the feeding ecology of juveniles. The proposed activities would occur throughout the species range in Puerto Rico.

Applicant: Dr. Charles Lydeard, Tuscaloosa, Alabama, TE089039-0

The applicant requests authorization to take (capture, identify, release) the following species: ovate clubshell (Pleurobema perovatum), southern clubshell (Pleurobema decisum), southern combshell (Epioblasma penita), upland combshell (Epioblasma metastriata), Alabama (=inflated) heelsplitter (Potamilus inflatus), triangular kidneyshell (Ptychobranchus greeni), Alabama moccasinshell (Medionidus acutissimus), Coosa moccasinshell (Medionidus parvulus), gulf moccasinshell (Medionidus penicillatus), orangenacre mucket (Lampsilis perovalis), dark pigtoe (Pleurobema furvum), flat pigtoe (Pleurobema marshalli), heavy pigtoe (Pleurobema taitianum), fined-lined pocketbook (Lampsilis altilis), stirrupshell (Quadrula stapes), lacy (snail) elimia (Elimia crenatella), cylindrical (snail) lioplax (Lioplax cyclostomaformis), flat pebblesnail (Lepyrium showalteri), painted rocksnail (Leptoxis taeniata), plicate rocksnail (Leptoxis plicata), round rocksnail (Leptoxis ampla), and tulotoma snail (Tulotoma magnifica) while conducting presence/absence surveys. The proposed activities would occur in western Alabama.

Dated: June 14, 2004.
Sam D. Hamilton,
Regional Director.

[FR Doc. 04-14780 Filed 6-29-04; 8:45 am]

BILLING CODE 4310-55-P